DEPARTMENT OF ENERGY

Federal Energy Regulatory Commission

[Docket No. EL21-99-000]

Complaint of Michael Mabee and Petition To Order Mandatory Reliability Standards for Equipment and Monitoring Systems Marketed From the People's Republic of China; Notice of Complaint

Take notice that on August 26, 2021, pursuant to section 215(d) of the Federal Power Act, 16 U.S.C. 824o(d) and Rule 206 of the Federal Energy Regulatory Commission's (Commission) Rules of Practice and Procedure, 18 CFR 385.206 (2020), Michael Mabee, (Complainant) filed a formal complaint alleging: (1) Entities in the U.S. Bulk Power System as well as the overall U.S. electric grid are buying critical equipment from the People's Republic of China to install into our critical electric infrastructure that the Communist regime's state sponsored, and state supported hackers are already probing and attacking; (2) there is no requirement that existing Chinese equipment or systems already installed in the electric grid be checked and tested for risks and vulnerabilities; and (3) there is no requirement that newly imported Chinese equipment or systems be checked and tested for risks and vulnerabilities before being installed on the electric grid., as more fully explained in the complaint.

Complainant certifies that copies of the complaint were served on the contacts as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. All interventions, or protests must be filed on or before the comment date.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 Eastern Time on September 15, 2021.

Dated: August 31, 2021.
Debbie-Anne A. Reese,
Deputy Secretary.

[FR Doc. 2021-19206 Filed 9-3-21; 8:45 am]

BILLING CODE 6717-01-P